DEPARTMENT OF COMMERCE

Patent and Trademark Office

[Docket No.: PTO-C-2017-0006]

Notice of Public Meeting on Developments in Trade Secret Protection

AGENCY: United States Patent and Trademark Office, Commerce.

ACTION: Notice of symposium.

SUMMARY: The United States Patent and Trademark Office (USPTO) will be holding a public symposium on issues relevant to the protection of trade secrets. Since our last symposium on these issues in January 2015, the area of trade secret protection has continued to develop, most notably with the May 11, 2016, enactment of the Defend Trade Secrets Act (DTSA). Given this legislation and the continuing domestic and international attention to trade secrets, the USPTO will be holding another public symposium to address recent developments.

DATES: The symposium will be held on May 8, 2017, from 9 a.m. to 4 p.m. EDT.

ADDRESSES: The symposium will be held at the auditorium of the United States Patent and Trademark Office, Madison Building, 600 Dulany Street, Alexandria, Virginia 22314. All major entrances to the building are accessible to people with disabilities.

FOR FURTHER INFORMATION CONTACT: For further information regarding the symposium, please contact Michael Smith, Jenny Blank, or Hollis Robinson at the Office of Policy and International Affairs, by telephone at (571) 272-9300, by email at tradesecrets@uspto.gov, or by postal mail addressed to: Mail Stop OPIA, United States Patent and Trademark Office, P.O. Box 1450, Alexandria, VA 22313-1450, ATTN: Michael Smith, Jenny Blank, or Hollis Robinson. Please direct all media inquiries to the Office of the Chief Communications Officer, USPTO, at (571) 272-8400.

SUPPLEMENTARY INFORMATION:

Trade Secret Symposium

Under U.S. law, trade secrets comprise commercially valuable information not generally known or readily ascertainable to the public, that are subject to reasonable measures to maintain confidentiality. In May 2016, the Defend Trade Secrets Act of 2016 (DTSA) established a federal private civil cause of action for the misappropriation of a trade secret, with the aim to provide businesses with a uniform, reliable and predictable way to protect their valuable trade secrets anywhere in the country. Given this legislation and the continuing domestic and international attention to trade secrets, the USPTO will hold a public symposium on recent developments in the protection of trade secrets. Topics to be discussed include: (1) Measuring the Value of Secrecy; (2) Use of the DTSA in Practice; (3) Differences in Trade Secret Protection in Foreign Jurisdictions; and (4) Considerations of Business Owners in International Cases. Experts from academia, private legal practice, international organizations, and industry will serve as panelists.

Instructions and Information on the Public Symposium

The symposium will be held on May 8, 2017, at the auditorium of the United States Patent and Trademark Office, Madison Building, 600 Dulany Street, Alexandria, Virginia 22314. The symposium will begin at 9 a.m. and end at 4 p.m. EDT. The agenda will be available a week in advance on the USPTO Web site, https://www.uspto.gov/learning-and-resources/ip-policy/enforcement/trade-secret-symposium. Pre-registration is available at http://www.cvent.com/d/45q976. Attendees may also register at the door one half-hour prior to the beginning of the symposium.

The symposium will be physically accessible to people with disabilities. Individuals requiring accommodation, such as sign language interpretation or other ancillary aids, should communicate their needs to Hollis Robinson at the Office of Policy and International Affairs, by telephone at (571) 272-9300, by email at hollis.robinson@uspto.gov, or by postal mail addressed to: Mail Stop OPIA, United States Patent and Trademark Office, P.O. Box 1450, Alexandria, VA 22313-1450, ATTN: Hollis Robinson, at least seven (7) business days prior to the symposium.

Dated: April 5, 2017.
Michelle K. Lee,
Under Secretary of Commerce for Intellectual Property and Director of the United States Patent and Trademark Office.

[FR Doc. 2017-07254 Filed 4-10-17; 8:45 am]

BILLING CODE 3510-16-P